SECURITIES AND EXCHANGE COMMISSION

[Release No. 34-81720; File No. 4-631]

Joint Industry Plan; Notice of Filing and Immediate Effectiveness of the Fifteenth Amendment to the National Market System Plan To Address Extraordinary Market Volatility by Bats BZX Exchange, Inc., Bats BYX Exchange, Inc., Bats EDGA Exchange, Inc., Bats EDGX Exchange, Inc., Chicago Stock Exchange, Inc., Financial Industry Regulatory Authority, Inc., Investors Exchange LLC, NASDAQ BX, Inc., NASDAQ PHLX LLC, The Nasdaq Stock Market LLC, NYSE National, Inc., New York Stock Exchange LLC, NYSE American LLC, and NYSE Arca, Inc.

September 26, 2017.

I. Introduction

On August 31, 2017, NYSE Group, Inc., on behalf of the following parties to the National Market System Plan to Address Extraordinary Market Volatility (“the Plan”): ¹ Bats BZX Exchange, Inc., Bats BYX Exchange, Inc., Bats EDGA Exchange, Inc., Bats EDGX Exchange, Inc., Chicago Stock Exchange, Inc., the Financial Industry Regulatory Authority, Inc. (“FINRA”), Investors Exchange LLC, NASDAQ BX, Inc., NASDAQ PHLX LLC, The NASDAQ Stock Market LLC (“Nasdaq”), New York Stock Exchange LLC (“NYSE”), NYSE Arca, Inc., NYSE American LLC, and NYSE National Inc. (collectively, the “Participants”) filed with the Securities and Exchange Commission (“Commission”) pursuant to Section 11A(a)(3) of the Securities Exchange Act of 1934 (“Exchange Act”) ² and Rule 608 thereunder,³ a proposal to amend the Plan (“Fifteenth Amendment”).⁴ The proposal reflects changes unanimously approved by the Participants. The Fifteenth Amendment proposes to extend the implementation date for the twelfth amendment to the Plan (“Twelfth Amendment”) and related changes from the thirteenth amendment to the Plan (“Amendment 13 Changes”) set out in the fourteenth amendment to the Plan (“Fourteenth Amendment”), as discussed below.⁵ The Participants are filing the Fifteenth Amendment for immediate effectiveness pursuant to Rule 608(b)(3)(iii) of Regulation NMS (“Rule 608”) under the Exchange Act.⁶ The Commission is publishing this notice to solicit comments from interested persons.⁷

¹ On May 31, 2012, the Commission approved the Plan, as modified by Amendment No. 1. See Securities Exchange Act Release No. 67091, 77 FR 33498 (June 6, 2012) (File No. 4-631). On February 20, 2013, the Commission noticed for immediate effectiveness the Second Amendment to the Plan. See Securities Exchange Act Release No. 68953, 78 FR 13113 (February 26, 2013). On April 3, 2013, the Commission approved the Third Amendment to the Plan. See Securities Exchange Act Release No. 69287, 78 FR 21483 (April 10, 2013). On August 27, 2013, the Commission noticed for immediate effectiveness the Fourth Amendment to the Plan. See Securities Exchange Act Release No. 70273, 78 FR 54321 (September 3, 2013). On September 26, 2013, the Commission approved the Fifth Amendment to the Plan. See Securities Exchange Act Release No. 70530, 78 FR 60937 (October 2, 2013). On January 7, 2014, the Commission noticed for immediate effectiveness the Sixth Amendment to the Plan. See Securities Exchange Act Release No. 71247, 79 FR 2204 (January 13, 2014). On April 3, 2014, the Commission approved the Seventh Amendment to the Plan. See Securities Exchange Act Release No. 71851, 79 FR 19687 (April 9, 2014). On February 19, 2015, the Commission approved the Eight Amendment to the Plan. See Securities Exchange Act Release No. 74323, 80 FR 10169 (February 25, 2015). On October 22, 2015, the Commission approved the Ninth Amendment to the Plan. See Securities Exchange Act Release No. 76244, 80 FR 66099 (October 28, 2015). On April 21, 2016, the Commission approved the Tenth Amendment to the Plan. See Securities Exchange Act Release No. 77679, 81 FR 24908 (April 27, 2016). On August 26, 2016, the Commission noticed for immediate effectiveness the Eleventh Amendment to the Plan. See Securities Exchange Act Release No. 78703, 81 FR 60397 (September 1, 2016). On January 19, 2017, the Commission approved the Twelfth Amendment to the Plan. See Securities Exchange Act Release No. 79845, 82 FR 8551 (January 26, 2017). On April 13, 2017, the Commission approved the Thirteenth Amendment to the Plan. See Securities Exchange Act Release No. 80455, 82 FR 18519 (April 19, 2017). On April 28, 2017, the Commission noticed for immediate effectiveness the Fourteenth Amendment to the Plan. See Securities Exchange Act Release No. 80549, 82 FR 20928 (May 4, 2017).

² 15 U.S.C 78k-1(a)(3).

³ 17 CFR 242.608.

⁴ See Letter from Elizabeth King, General Counsel and Corporate Secretary, NYSE, to Brent Fields, Secretary, Commission, dated August 30, 2017 (“Transmittal Letter”).

⁵ The Participants also propose a non-substantive amendment to the Plan text to reflect the name change of NYSE MKT LLC to NYSE American LLC. See Securities Exchange Act Release No. Securities Exchange Act Release No. 80283 (March 21, 2017), 82 FR 15244 (March 27, 2017) (SR-NYSEMKT-2017-14).

⁶ 17 CFR 242.608(b)(3)(iii).

⁷ 17 CFR 242.608(b)(1).

II. Description of the Plan

Set forth in this Section II is the statement of the purpose and summary of the Fourteenth Amendment, along with the information required by Rule 608(a)(4) and (5) under the Exchange Act,⁸ prepared and submitted by the Participants to the Commission.⁹

⁸ See 17 CFR 242.608(a)(4) and (a)(5).

⁹ See Transmittal Letter, supra note 4.

A. Statement of Purpose and Summary of the Plan Amendment

The Participants filed the Plan on April 5, 2011, to create a market-wide limit up-limit down mechanism intended to address extraordinary market volatility in NMS Stocks, as defined in Rule 600(b)(47) of Regulation NMS under the Exchange Act. The Plan sets forth procedures that provide for market-wide limit up-limit down requirements that would prevent trades in individual NMS Stocks from occurring outside of the specified price bands. These limit up-limit down requirements are coupled with Trading Pauses,¹⁰ as defined in Section I(Y) of the Plan, to accommodate more fundamental price moves. In particular, the Participants adopted this Plan to address the type of sudden price movements that the market experienced on the afternoon of May 6, 2010.

¹⁰ Unless otherwise specified, the terms used herein have the same meaning as set forth in the Plan.

As set forth in more detail in the Plan, all trading centers in NMS Stocks, including both those operated by Participants and those operated by members of Participants, shall establish, maintain, and enforce written policies and procedures that are reasonably designed to comply with the limit up-limit down requirements specified in the Plan. More specifically, the Processor responsible for consolidation of information for an NMS Stock pursuant to Rule 603(b) of Regulation NMS under the Exchange Act will be responsible for calculating and disseminating a lower price band and upper price band, as provided for in Section V of the Plan. Section VI of the Plan sets forth the limit up-limit down requirements of the Plan, and in particular, that all trading centers in NMS Stocks, including both those operated by Participants and those operated by members of Participants, shall establish, maintain, and enforce written policies and procedures that are reasonably designed to prevent trades at prices that are below the lower price band or above the upper price band for an NMS Stock, consistent with the Plan.

The changes approved by the Commission in the twelfth amendment to the Plan provide that a Trading Pause will continue until the Primary Listing Exchange has reopened trading using its established reopening procedures, and to require that trading centers not resume trading in an NMS Stock following a Trading Pause without Price Bands for such NMS Stock. In the Statement of Purpose filed with the twelfth amendment, the Participants stated that the changes described in the twelfth amendment would be implemented no later than six months after approval of that amendment. Based on the fourteenth amendment to the Plan, the twelfth amendment must be implemented no later than the end of the third quarter of 2017.

Because the SIP technology changes necessary to implement the twelfth amendment to the Plan and the Amendment 13 Changes will not be ready by September 30, 2017, the Participants are filing this proposal to change the implementation date for the changes to the Plan set forth in the twelfth amendment and the Amendment 13 Changes to no later than November 30, 2017. Specifically, the CQS and CTA SIPs are in the process of upgrading to binary message type formats over their multicast channels and the changes described in the twelfth and thirteenth amendments to the Plan are scheduled to be implemented together with these upgrades. SIAC has announced revised implementation dates for the implementation of the CQS and CTA new binary formats, which impacts the implementation dates for SIAC's implementation of the twelfth amendment to the Plan and the Amendment 13 Changes.¹¹

¹¹ See Updated CQS and CTS Multicast Output Binary Formats: Testing and Implementation Schedule Update 7, available here: https://www.nyse.com/publicdocs/ctaplan/notifications/trader-update/CTS_CQS%20New%20Binary%20Formats_Update_v7_06262017.pdf.

Because of a dependency on certain SIP technology changes, certain Primary Listing Exchanges will not be ready to implement the changes to their automated reopening processes following a Trading Pause, which were made pursuant to exchange rule filings in conjunction with the twelfth amendment to the Plan, by September 30, 2017. To provide for a standardized approach that would allow for extensions of a Trading Pause by the Primary Listing Exchange if equilibrium cannot be met to establish a Reopening Price within specified parameters (“automated reopening changes”), the Primary Listing Exchanges amended their rules for automated reopenings.¹² The Primary Listing Exchanges anticipate implementing the automated reopening changes commensurate with implementation of the twelfth amendment to the Plan and the Amendment 13 Changes.¹³

¹² See Securities Exchange Act Release Nos. 79846 (January 19, 2017), 82 FR 8548 (January 26, 2017) (SR-NYSEArca-2016-130) (Approval Order); 79884 (January 26, 2017), 82 FR 8968 (February 1, 2017) (SR-BatsBZX-2016-61) (Approval Order); 79876 (January 25, 2017), 82 FR 8888 (January 31, 2017) (SR-Nasdaq-2016-131) (Approval Order).

¹³ In other words, the Participants expect that both the changes pursuant to the twelfth amendment and the Primary Listing Exchange automated reopening changes would become operative at the same time.

Accordingly, both to provide time to support the technology changes for the twelfth amendment to the Plan and to align the implementation date of the twelfth amendment and the

Amendment 13 Changes with the implementation timeline for the automated reopening changes by the Primary Listing Exchanges, the Participants propose to change the implementation date for the changes in the twelfth amendment to the Plan and the Amendment 13 Changes to no later than November 30, 2017. This proposed change does not require any changes to the text of the Plan.

The Participants believe that the proposed modification to the implementation schedule is technical and ministerial in nature because it simply extends the implementation period for the twelfth amendment to the Plan and does not change any substantive elements of the Plan.¹⁴ The Participants believe that the proposal to extend the implementation schedule is consistent with the goal of the twelfth amendment to the Plan, which is to reduce the potential for sequential Trading Pauses in an NMS Stock by centralizing the reopening process through the Primary Listing Exchanges, because it would align the implementation schedule for the twelfth amendment to the Plan with the implementation schedule for the automated reopening changes. The proposed amendment would therefore protect investors and the public interest and is appropriate to the maintenance of fair and orderly markets.

¹⁴ See, e.g., Securities Exchange Act Release Nos. 70273 (amending Section VIII.B of the Plan to establish a new implementation schedule for Phase II of the Plan) and 71247 (amending Section VIII.B of the Plan to establish a new implementation schedule for Phase II of the Plan), supra note 1.

B. Governing or Constituent Documents

The governing documents of the Processor, as defined in Section I(P) of the Plan, will not be affected by the Plan, but once the Plan is implemented, the Processor's obligations will change, as set forth in detail in the Plan.

C. Implementation of Plan

The initial date of the Plan operations was April 8, 2013.

D. Development and Implementation Phases

The Plan was initially implemented as a one-year pilot program in two Phases, consistent with Section VIII of the Plan: Phase I of Plan implementation began on April 8, 2013 and was completed on May 3, 2013. Implementation of Phase II of the Plan began on August 5, 2013 and was completed on February 24, 2014. The tenth amendment to the Plan was implemented on July 18, 2016. Pursuant to the proposed thirteenth amendment to the Plan, the Participants propose [sic] to extend the pilot period until April 16, 2018.¹⁵ Currently, the Participants must implement the twelfth amendment to the Plan to no later than the end of the third quarter of 2017. Pursuant to this proposed amendment, the Participants propose to extend the time frame to implement the twelfth amendment to the Plan and the Amendment 13 Changes to no later than November 30, 2017.

¹⁵ See Securities Exchange Act Release No. 80455 (order approving the thirteenth amendment to the Plan), supra note 1.

E. Analysis of Impact on Competition

The proposed Plan does not impose any burden on competition that is not necessary or appropriate in furtherance of the purposes of the Exchange Act. The Participants do not believe that the proposed Plan introduces terms that are unreasonably discriminatory for the purposes of Section 11A(c)(1)(D) of the Exchange Act.

F. Written Understanding or Agreements Relating to Interpretation of, or Participation in, Plan

The Participants have no written understandings or agreements relating to interpretation of the Plan. Section II(C) of the Plan sets forth how any entity registered as a national securities exchange or national securities association may become a Participant.

G. Approval of Amendment of the Plan

Each of the Plan's Participants has executed a written amended Plan.

H. Terms and Conditions of Access

Section II(C) of the Plan provides that any entity registered as a national securities exchange or national securities association under the Exchange Act may become a Participant by: (1) Becoming a participant in the applicable Market Data Plans, as defined in Section I(F) of the Plan; (2) executing a copy of the Plan, as then in effect; (3) providing each then-current Participant with a copy of such executed Plan; and (4) effecting an amendment to the Plan as specified in Section III(B) of the Plan.

I. Method of Determination and Imposition, and Amount of, Fees and Charges

Not applicable.

J. Method and Frequency of Processor Evaluation

Not applicable.

K. Dispute Resolution

Section III(C) of the Plan provides that each Participant shall designate an individual to represent the Participant as a member of an Operating Committee. No later than the initial date of the Plan, the Operating Committee shall designate one member of the Operating Committee to act as the Chair of the Operating Committee. Any recommendation for an amendment to the Plan from the Operating Committee that receives an affirmative vote of at least two-thirds of the Participants, but is less than unanimous, shall be submitted to the Commission as a request for an amendment to the Plan initiated by the Commission under Rule 608.

On July 19, 2017, the Operating Committee, duly constituted and chaired by Mr. Robert Books of Bats, met and voted unanimously to amend the Plan as set forth herein in accordance with Section III(C) of the Plan. The Plan Advisory Committee was notified in connection with the Fifteenth Amendment and was in favor.

III. Solicitation of Comments

Interested persons are invited to submit written data, views and arguments concerning the foregoing, including whether the amendment is consistent with the Exchange Act and the rules thereunder. Comments may be submitted by any of the following methods:

Electronic Comments

• Use the Commission's Internet comment form (http://www.sec.gov/rules/sro.shtml); or

• Send an e-mail to rule-comments@sec.gov. Please include File Number 4-631 on the subject line.

Paper Comments

• Send paper comments in triplicate to Brent J. Fields, Secretary, Securities and Exchange Commission, 100 F Street NE., Washington, DC 20549-1090.

All submissions should refer to File Number 4-631.This file number should be included on the subject line if e-mail is used. To help the Commission process and review your comments more efficiently, please use only one method. The Commission will post all comments on the Commission's Internet Web site (http://www.sec.gov/rules/sro.shtml). Copies of the submission, all subsequent amendments, all written statements with respect to the proposed plan amendment that are filed with the Commission, and all written communications relating to the amendment between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing also will be available for inspection and copying at the Participants' offices. All comments received will be posted without change; the Commission does not edit personal identifying information from submissions. You should submit only information that you wish to make available publicly. All submissions should refer to File Number 4-631 and should be submitted on or before October 23, 2017.

By the Commission.
Brent J. Fields,
Secretary.

ATTACHMENT A

Proposed new language is italicized; proposed deletions are in [brackets].

PLAN TO ADDRESS EXTRAORDINARY MARKET VOLATILITY SUBMITTED TO THE SECURITIES AND EXCHANGE COMMISSION PURSUANT TO RULE 608 OF REGULATION NMS UNDER THE SECURITIES EXCHANGE ACT OF 1934

Table of Contents
Section | Page
Preamble | 1
I. Definitions | 2
II. Parties | 4
III. Amendments to Plan | 7
IV. Trading Center Policies and Procedures | 8
V. Price Bands | 8
VI. Limit Up—Limit Down Requirements | 11
VII. Trading Pauses | 13
VIII. Implementation | 15
IX. Withdrawal from Plan | 16
X. Counterparts and Signatures | 16
Appendix A—Percentage Parameters | 18
Appendix A—Schedule 1 | 20
Appendix B—Data | 35

Preamble

The Participants submit to the SEC this Plan establishing procedures to address extraordinary volatility in NMS Stocks. The procedures provide for market-wide limit up-limit down requirements that prevent trades in individual NMS Stocks from occurring outside of the specified Price Bands. These limit up-limit down requirements are coupled with Trading Pauses to accommodate more fundamental price moves. The Plan procedures are designed, among other things, to protect investors and promote fair and orderly markets. The Participants developed this Plan pursuant to Rule 608(a)(3) of Regulation NMS under the Exchange Act, which authorizes the Participants to act jointly in preparing, filing, and implementing national market system plans.

I. Definitions

(A) “Eligible Reported Transactions” shall have the meaning prescribed by the Operating Committee and shall generally mean transactions that are eligible to update the last sale price of an NMS Stock.

(B) “Exchange Act” means the Securities Exchange Act of 1934, as amended.

(C) “Limit State” shall have the meaning provided in Section VI of the Plan.

(D) “Limit State Quotation” shall have the meaning provided in Section VI of the Plan.

(E) “Lower Price Band” shall have the meaning provided in Section V of the Plan.

(F) “Market Data Plans” shall mean the effective national market system plans through which the Participants act jointly to disseminate consolidated information in compliance with Rule 603(b) of Regulation NMS under the Exchange Act.

(G) “National Best Bid” and “National Best Offer” shall have the meaning provided in Rule 600(b)(42) of Regulation NMS under the Exchange Act.

(H) “NMS Stock” shall have the meaning provided in Rule 600(b)(47) of Regulation NMS under the Exchange Act.

(I) “Opening Price” shall mean the price of a transaction that opens trading on the Primary Listing Exchange. If the Primary Listing Exchange opens with quotations, the “Opening Price” shall mean the closing price of the NMS Stock on the Primary Listing Exchange on the previous trading day, or if no such closing price exists, the last sale on the Primary Listing Exchange.

(J) “Operating Committee” shall have the meaning provided in Section III(C) of the Plan.

(K) “Participant” means a party to the Plan.

(L) “Plan” means the plan set forth in this instrument, as amended from time to time in accordance with its provisions.

(M) “Percentage Parameter” shall mean the percentages for each tier of NMS Stocks set forth in Appendix A of the Plan.

(N) “Price Bands” shall have the meaning provided in Section V of the Plan.

(O) “Primary Listing Exchange” shall mean the Participant on which an NMS Stock is listed. If an NMS Stock is listed on more than one Participant, the Participant on which the NMS Stock has been listed the longest shall be the Primary Listing Exchange.

(P) “Processor” shall mean the single plan processor responsible for the consolidation of information for an NMS Stock pursuant to Rule 603(b) of Regulation NMS under the Exchange Act.

(Q) “Pro-Forma Reference Price” shall have the meaning provided in Section V(A)(2) of the Plan.

(R) “Reference Price” shall have the meaning provided in Section V of the Plan.

(S) “Regular Trading Hours” shall have the meaning provided in Rule 600(b)(64) of Regulation NMS under the Exchange Act. For purposes of the Plan, Regular Trading Hours can end earlier than 4:00 p.m. ET in the case of an early scheduled close.

(T) “Regulatory Halt” shall have the meaning specified in the Market Data Plans.

(U) “Reopening Price” shall mean the price of a transaction that reopens trading on the Primary Listing Exchange following a Trading Pause or a Regulatory Halt, or, if the Primary Listing Exchange reopens with quotations, the midpoint of those quotations.

(V) “SEC” shall mean the United States Securities and Exchange Commission.

(W) “Straddle State” shall have the meaning provided in Section VII(A)(2) of the Plan.

(X) “Trading center” shall have the meaning provided in Rule 600(b)(78) of Regulation NMS under the Exchange Act.

(Y) “Trading Pause” shall have the meaning provided in Section VII of the Plan.

(Z) “Upper Price Band” shall have the meaning provided in Section V of the Plan.

II. Parties

(A) List of Parties

The parties to the Plan are as follows:

(1) Bats BZX Exchange, Inc.

8050 Marshall Drive

Lenexa, Kansas 66214

(2) Bats BYX Exchange, Inc.

8050 Marshall Drive

Lenexa, Kansas 66214

(3) Bats EDGA Exchange, Inc.

8050 Marshall Drive

Lenexa, Kansas 66214

(4) Bats EDGX Exchange, Inc.

8050 Marshall Drive

Lenexa, Kansas 66214

(5) Chicago Stock Exchange, Inc.

440 South LaSalle Street

Chicago, Illinois 60605

(6) Financial Industry Regulatory Authority, Inc.

1735 K Street, NW

Washington, DC 20006

(7) Investors Exchange LLC

4 World Trade Center, 44th Floor

New York, New York 10007

(8) NASDAQ BX, Inc.

One Liberty Plaza

New York, New York 10006

(9) NASDAQ PHLX LLC

1900 Market Street

Philadelphia, Pennsylvania 19103

(10) The Nasdaq Stock Market LLC

1 Liberty Plaza

165 Broadway

New York, NY 10006

(11) NYSE National, Inc.

11 Wall Street

New York, NY 10005

(12) New York Stock Exchange LLC

11 Wall Street

New York, New York 10005

(13) NYSE [MKT]American LLC

11 Wall Street

New York, New York 10005

(14) NYSE Arca, Inc.

11 Wall Street

New York, New York 10005

(B) Compliance Undertaking

By subscribing to and submitting the Plan for approval by the SEC, each Participant agrees to comply with and to enforce compliance, as required by Rule 608(c) of Regulation NMS under the Exchange Act, by its members with the provisions of the Plan. To this end, each Participant shall adopt a rule requiring compliance by its members with the provisions of the Plan, and each Participant shall take such actions as are necessary and appropriate as a participant of the Market Data Plans to cause and enable the Processor for each NMS Stock to fulfill the functions set forth in this Plan.

(C) New Participants

The Participants agree that any entity registered as a national securities exchange or national securities association under the Exchange Act may become a Participant by: (1) becoming a participant in the applicable Market Data Plans; (2) executing a copy of the Plan, as then in effect; (3) providing each then-current Participant with a copy of such executed Plan; and (4) effecting an amendment to the Plan as specified in Section III (B) of the Plan.

(D) Advisory Committee

(1) Formation. Notwithstanding other provisions of this Plan, an Advisory Committee to the Plan shall be formed and shall function in accordance with the provisions set forth in this section.

(2) Composition. Members of the Advisory Committee shall be selected for two-year terms as follows:

(A) Advisory Committee Selections. By affirmative vote of a majority of the Participants, the Participants shall select at least one representatives from each of the following categories to be members of the Advisory Committee: (1) a broker-dealer with a substantial retail investor customer base; (2) a broker-dealer with a substantial institutional investor customer base; (3) an alternative trading system; (4) a broker-dealer that primarily engages in trading for its own account; and (5) an investor.

(3) Function. Members of the Advisory Committee shall have the right to submit their views to the Operating Committee on Plan matters, prior to a decision by the Operating Committee on such matters. Such matters shall include, but not be limited to, proposed material amendments to the Plan.

(4) Meetings and Information. Members of the Advisory Committee shall have the right to attend meetings of the Operating Committee and to receive any information concerning Plan matters; provided, however, that the Operating Committee may meet in executive session if, by affirmative vote of a majority of the Participants, the Operating Committee determines that an item of Plan business requires confidential treatment.

III. Amendments to Plan

(A) General Amendments

Except with respect to the addition of new Participants to the Plan, any proposed change in, addition to, or deletion from the Plan shall be effected by means of a written amendment to the Plan that: (1) sets forth the change, addition, or deletion; (2) is executed on behalf of each Participant; and, (3) is approved by the SEC pursuant to Rule 608 of Regulation NMS under the Exchange Act, or otherwise becomes effective under Rule 608 of Regulation NMS under the Exchange Act.

(B) New Participants

With respect to new Participants, an amendment to the Plan may be effected by the new national securities exchange or national securities association executing a copy of the Plan, as then in effect (with the only changes being the addition of the new Participant's name in Section II(A) of the Plan) and submitting such executed Plan to the SEC for approval. The amendment shall be effective when it is approved by the SEC in accordance with Rule 608 of Regulation NMS under the Exchange Act or otherwise becomes effective pursuant to Rule 608 of Regulation NMS under the Exchange Act.

(C) Operating Committee

(1) Each Participant shall select from its staff one individual to represent the Participant as a member of an Operating Committee, together with a substitute for such individual. The substitute may participate in deliberations of the Operating Committee and shall be considered a voting member thereof only in the absence of the primary representative. Each Participant shall have one vote on all matters considered by the Operating Committee. No later than the initial date of Plan operations, the Operating Committee shall designate one member of the Operating Committee to act as the Chair of the Operating Committee.

(2) The Operating Committee shall monitor the procedures established pursuant to this Plan and advise the Participants with respect to any deficiencies, problems, or recommendations as the Operating Committee may deem appropriate. The Operating Committee shall establish specifications and procedures for the implementation and operation of the Plan that are consistent with the provisions of this Plan and the Appendixes thereto. With respect to matters in this paragraph, Operating Committee decisions shall be approved by a simple majority vote.

(3) Any recommendation for an amendment to the Plan from the Operating Committee that receives an affirmative vote of at least two-thirds of the Participants, but is less than unanimous, shall be submitted to the SEC as a request for an amendment to the Plan initiated by the Commission under Rule 608 of Regulation NMS.

IV. Trading Center Policies and Procedures

All trading centers in NMS Stocks, including both those operated by Participants and those operated by members of Participants, shall establish, maintain, and enforce written policies and procedures that are reasonably designed to comply with the limit up—limit down requirements specified in Sections VI of the Plan, and to comply with the Trading Pauses specified in Section VII of the Plan.

V. Price Bands

(A) Calculation and Dissemination of Price Bands

(1) The Processor for each NMS stock shall calculate and disseminate to the public a Lower Price Band and an Upper Price Band during Regular Trading Hours for such NMS Stock. The Price Bands shall be based on a Reference Price for each NMS Stock that equals the arithmetic mean price of Eligible Reported Transactions for the NMS stock over the immediately preceding five-minute period (except for periods following openings and reopenings, which are addressed below). If no Eligible Reported Transactions for the NMS Stock have occurred over the immediately preceding five-minute period, the previous Reference Price shall remain in effect. The Price Bands for an NMS Stock shall be calculated by applying the Percentage Parameter for such NMS Stock to the Reference Price, with the Lower Price Band being a Percentage Parameter below the Reference Price, and the Upper Price Band being a Percentage Parameter above the Reference Price. The Price Bands shall be calculated during Regular Trading Hours. Between 9:30 a.m. and 9:45 a.m. ET, and 3:35 p.m. and 4:00 p.m. ET, or in the case of an early scheduled close, during the last 25 minutes of trading before the early scheduled close, the Price Bands shall be calculated by applying double the Percentage Parameters set forth in Appendix A. If the Processor has not yet disseminated Price Bands, but a Reference Price is available, a trading center may calculate and apply Price Bands based on the same Reference Price that the Processor would use for calculating such Price Bands until such trading center receives Price Bands from the Processor. If, under Section VII(B)(2), the Primary Listing Exchange notifies the Processor that it is unable to reopen an NMS Stock due to a systems or technology issue and it has not declared a Regulatory Halt, the Processor will calculate and disseminate Price Bands by applying triple the Percentage Parameters set forth in Appendix A for the first 30 seconds such Price Bands are disseminated.

(2) The Processor shall calculate a Pro-Forma Reference Price on a continuous basis during Regular Trading Hours, as specified in Section V(A)(1) of the Plan. If a Pro-Forma Reference Price has not moved by 1% or more from the Reference Price currently in effect, no new Price Bands shall be disseminated, and the current Reference Price shall remain the effective Reference Price. When the Pro-Forma Reference Price has moved by 1% or more from the Reference Price currently in effect, the Pro-Forma Reference Price shall become the Reference Price, and the Processor shall disseminate new Price Bands based on the new Reference Price; provided, however, that each new Reference Price shall remain in effect for at least 30 seconds.

(B) Openings

(1) Except when a Regulatory Halt is in effect at the start of Regular Trading Hours, the first Reference Price for a trading day shall be the Opening Price on the Primary Listing Exchange in an NMS Stock if such Opening Price occurs less than five minutes after the start of Regular Trading Hours. During the period less than five minutes after the Opening Price, a Pro-Forma Reference Price shall be updated on a continuous basis to be the arithmetic mean price of Eligible Reported Transactions for the NMS Stock during the period following the Opening Price (including the Opening Price), and if it differs from the current Reference Price by 1% or more shall become the new Reference Price, except that a new Reference Price shall remain in effect for at least 30 seconds. Subsequent Reference Prices shall be calculated as specified in Section V(A) of the Plan.

(2) If the Opening Price on the Primary Listing Exchange in an NMS Stock does not occur within five minutes after the start of Regular Trading Hours, the first Reference Price for a trading day shall be the arithmetic mean price of Eligible Reported Transactions for the NMS Stock over the preceding five minute time period, and subsequent Reference Prices shall be calculated as specified in Section V(A) of the Plan.

(C) Reopenings

(1) Following a Trading Pause in an NMS Stock, and if the Primary Listing Exchange has not declared a Regulatory Halt, if the Primary Listing Exchange reopens trading with a transaction or quotation that does not include a zero bid or zero offer, the next Reference Price shall be the Reopening Price on the Primary Listing Exchange. Subsequent Reference Prices shall be determined in the manner prescribed for normal openings, as specified in Section V(B)(1) of the Plan. If the Primary Listing Exchange notifies the Processor that it is unable to reopen an NMS Stock due to a systems or technology issue, or if the Primary Listing Exchange reopens trading with a quotation that has a zero bid or zero offer, or both, the next Reference Price shall be the last effective Price Band that was in a Limit State before the Trading Pause. Subsequent Reference Prices shall be calculated as specified in Section V(A) of the Plan.

(2) Following a Regulatory Halt, the next Reference Price shall be the Opening or Reopening Price on the Primary Listing Exchange if such Opening or Reopening Price occurs within five minutes after the end of the Regulatory Halt, and subsequent Reference Prices shall be determined in the manner prescribed for normal openings, as specified in Section V(B)(1) of the Plan. If such Opening or Reopening Price has not occurred within five minutes after the end of the Regulatory Halt, the Reference Price shall be equal to the arithmetic mean price of Eligible Reported Transactions for the NMS Stock over the preceding five minute time period, and subsequent Reference Prices shall be calculated as specified in Section V(A) of the Plan.

VI. Limit Up—Limit Down Requirements

(A) Limitations on Trades and Quotations Outside of Price Bands

(1) All trading centers in NMS Stocks, including both those operated by Participants and those operated by members of Participants, shall establish, maintain, and enforce written policies and procedures that are reasonably designed to prevent trades at prices that are below the Lower Price Band or above the Upper Price Band for an NMS Stock. Single-priced opening, reopening, and closing transactions on the Primary Listing Exchange, however, shall be excluded from this limitation. In addition, any transaction that both (i) does not update the last sale price (except if solely because the transaction was reported late or because the transaction was an odd-lot sized transaction), and (ii) is excepted or exempt from Rule 611 under Regulation NMS shall be excluded from this limitation.

(2) When a National Best Bid is below the Lower Price Band or a National Best Offer is above the Upper Price Band for an NMS Stock, the Processor shall disseminate such National Best Bid or National Best Offer with an appropriate flag identifying it as non-executable. When a National Best Offer is equal to the Lower Price Band or a National Best Bid is equal to the Upper Price Band for an NMS Stock, the Processor shall distribute such National Best Bid or National Best Offer with an appropriate flag identifying it as a “Limit State Quotation”.

(3) All trading centers in NMS Stocks, including both those operated by Participants and those operated by members of Participants, shall establish, maintain, and enforce written policies and procedures that are reasonably designed to prevent the display of offers below the Lower Price Band and bids above the Upper Price Band for an NMS Stock. The Processor shall disseminate an offer below the Lower Price Band or bid above the Upper Price Band that may be submitted despite such reasonable policies and procedures, but with an appropriate flag identifying it as non-executable; provided, however, that any such bid or offer shall not be included in National Best Bid or National Best Offer calculations.

(B) Entering and Exiting a Limit State

(1) All trading for an NMS Stock shall immediately enter a Limit State if the National Best Offer equals the Lower Price Band and does not cross the National Best Bid, or the National Best Bid equals the Upper Price Band and does not cross the National Best Offer.

(2) When trading for an NMS Stock enters a Limit State, the Processor shall disseminate this information by identifying the relevant quotation (i.e., a National Best Offer that equals the Lower Price Band or a National Best Bid that equals the Upper Price Band) as a Limit State Quotation. At this point, the Processor shall cease calculating and disseminating updated Reference Prices and Price Bands for the NMS Stock until either trading exits the Limit State or trading resumes with an opening or re-opening as provided in Section V.

(3) Trading for an NMS Stock shall exit a Limit State if, within 15 seconds of entering the Limit State, the entire size of all Limit State Quotations are executed or cancelled.

(4) If trading for an NMS Stock exits a Limit State within 15 seconds of entry, the Processor shall immediately calculate and disseminate updated Price Bands based on a Reference Price that equals the arithmetic mean price of Eligible Reported Transactions for the NMS Stock over the immediately preceding five-minute period (including the period of the Limit State).

(5) If trading for an NMS Stock does not exit a Limit State within 15 seconds of entry, the Limit State will terminate when the Primary Listing Exchange declares a Trading Pause pursuant to Section VII of the Plan or at the end of Regular Trading Hours.

VII. Trading Pauses

(A) Declaration of Trading Pauses

(1) If trading for an NMS Stock does not exit a Limit State within 15 seconds of entry during Regular Trading Hours, then the Primary Listing Exchange shall declare a Trading Pause for such NMS Stock and shall notify the Processor.

(2) The Primary Listing Exchange may also declare a Trading Pause for an NMS Stock when an NMS Stock is in a Straddle State, which is when National Best Bid (Offer) is below (above) the Lower (Upper) Price Band and the NMS Stock is not in a Limit State, and trading in that NMS Stock deviates from normal trading characteristics such that declaring a Trading Pause would support the Plan's goal to address extraordinary market volatility. The Primary Listing Exchange shall develop policies and procedures for determining when it would declare a Trading Pause in such circumstances. If a Trading Pause is declared for an NMS Stock under this provision, the Primary Listing Exchange shall notify the Processor.

(3) The Processor shall disseminate Trading Pause information to the public. No trades in an NMS Stock shall occur during a Trading Pause, but all bids and offers may be displayed.

(B) Reopening of Trading During Regular Trading Hours

(1) Five minutes after declaring a Trading Pause for an NMS Stock, and if the Primary Listing Exchange has not declared a Regulatory Halt, the Primary Listing Exchange shall attempt to reopen trading using its established reopening procedures. The Processor will publish the following information that the Primary Listing Exchange provides to the Processor in connection with such reopening: auction reference price; auction collars; and number of extensions to the reopening auction. The Trading Pause shall end when the Primary Listing Exchange reports a Reopening Price.

(2) The Primary Listing Exchange shall notify the Processor if it is unable to reopen trading in an NMS Stock due to a systems or technology issue and if it has not declared a Regulatory Halt. The Processor shall disseminate this information to the public.

(3) Trading centers may not resume trading in an NMS Stock following a Trading Pause without Price Bands in such NMS Stock.

(4) The Processor shall update the Price Bands as set forth in Section V(C)(1)-(2) of the Plan after receiving notification from the Primary Listing Exchange of a Reopening Price following a Trading Pause (or a resume message in the case of a reopening quote that has a zero bid or zero offer, or both) or that it is unable to reopen trading following a Trading Pause due to a systems or technology issue, provided that if the Primary Listing Exchange is unable to reopen due to a systems or technology issue, the update to the Price Bands will be no earlier than ten minutes after the beginning of the Trading Pause.

(C) Trading Pauses Within Ten Minutes of the End of Regular Trading Hours

(1) If an NMS Stock is in a Trading Pause during the last ten minutes of trading before the end of Regular Trading Hours, the Primary Listing Exchange shall not reopen trading and shall attempt to execute a closing transaction using its established closing procedures. All trading centers may begin trading the NMS Stock when the Primary Listing Exchange executes a closing transaction.

(2) If the Primary Listing Exchange does not execute a closing transaction within five minutes after the end of Regular Trading Hours, all trading centers may begin trading the NMS Stock.

VIII. Implementation

The initial date of Plan operations shall be April 8, 2013.

The Plan shall be implemented on a pilot basis set to end on April 16, 2018.

IX. Withdrawal from Plan

If a Participant obtains SEC approval to withdraw from the Plan, such Participant may withdraw from the Plan at any time on not less than 30 days' prior written notice to each of the other Participants. At such time, the withdrawing Participant shall have no further rights or obligations under the Plan.

X. Counterparts and Signatures

The Plan may be executed in any number of counterparts, no one of which need contain all signatures of all Participants, and as many of such counterparts as shall together contain all such signatures shall constitute one and the same instrument.

IN WITNESS THEREOF, this Plan has been executed as of the __ day of August 2017 [February 2017] by each of the parties hereto.

BATS BZX EXCHANGE, INC.

BY:

BATS EDGA EXCHANGE, INC.

BY:

CHICAGO STOCK EXCHANGE, INC.

BY:

INVESTORS EXCHANGE LLC

BY:

NASDAQ PHLX LLC

BY:

NYSE NATIONAL, INC.

BY:

NYSE [MKT] American LLC

BY:

BATS BYX EXCHANGE, INC.

BY:

BATS EDGX EXCHANGE, INC.

BY:

FINANCIAL INDUSTRY REGULATORY AUTHORITY, INC.

BY:

NASDAQ BX, Inc.

BY:

THE NASDAQ STOCK MARKET LLC

BY:

NEW YORK STOCK EXCHANGE LLC

BY:

NYSE ARCA, INC.

BY:

Appendix A—Percentage Parameters

I. Tier 1 NMS Stocks

(1) Tier 1 NMS Stocks shall include all NMS Stocks included in the S&P 500 Index, the Russell 1000 Index, and the exchange-traded products (“ETP”) identified as Schedule 1 to this Appendix. Schedule 1 to the Appendix will be reviewed and updated semi-annually based on the fiscal year by the Primary Listing Exchange to add ETPs that meet the criteria, or delete ETPs that are no longer eligible. To determine eligibility for an ETP to be included as a Tier 1 NMS Stock, all ETPs across multiple asset classes and issuers, including domestic equity, international equity, fixed income, currency, and commodities and futures will be identified. Leveraged ETPs will be excluded and the list will be sorted by notional consolidated average daily volume (“CADV”). The period used to measure CADV will be from the first day of the previous fiscal half year up until one week before the beginning of the next fiscal half year. Daily volumes will be multiplied by closing prices and then averaged over the period. ETPs, including inverse ETPs, that trade over $2,000,000 CADV will be eligible to be included as a Tier 1 NMS Stock. The semi-annual updates to Schedule 1 do not require an amendment to the Plan. The Primary Listing Exchanges will maintain the updated Schedule 1 on their respective websites.

(2) The Percentage Parameters for Tier 1 NMS Stocks with a Reference Price more than $3.00 shall be 5%.

(3) The Percentage Parameters for Tier 1 NMS Stocks with a Reference Price equal to $0.75 and up to and including $3.00 shall be 20%.

(4) The Percentage Parameters for Tier 1 NMS Stocks with a Reference Price less than $0.75 shall be the lesser of (a) $0.15 or (b) 75%.

(5) The Reference Price used for determining which Percentage Parameter shall be applicable during a trading day shall be based on the closing price of the NMS Stock on the Primary Listing Exchange on the previous trading day, or if no closing price exists, the last sale on the Primary Listing Exchange reported by the Processor.

II. Tier 2 NMS Stocks

(1) Tier 2 NMS Stocks shall include all NMS Stocks other than those in Tier 1, provided, however, that all rights and warrants are excluded from the Plan.

(2) The Percentage Parameters for Tier 2 NMS Stocks with a Reference Price more than $3.00 shall be 10%.

(3) The Percentage Parameters for Tier 2 NMS Stocks with a Reference Price equal to $0.75 and up to and including $3.00 shall be 20%.

(4) The Percentage Parameters for Tier 2 NMS Stocks with a Reference Price less than $0.75 shall be the lesser of (a) $0.15 or (b) 75%.

(5) Notwithstanding the foregoing, the Percentage Parameters for a Tier 2 NMS Stock that is a leveraged ETP shall be the applicable Percentage Parameter set forth in clauses (2), (3), or (4) above, multiplied by the leverage ratio of such product.

(6) The Reference Price used for determining which Percentage Parameter shall be applicable during a trading day shall be based on the closing price of the NMS Stock on the Primary Listing Exchange on the previous trading day, or if no closing price exists, the last sale on the Primary Listing Exchange reported by the Processor.

Appendix A—Schedule 1 (as of January 3, 2017)

Ticker | ETP name | Exchange
SPY | SPDR S&P 500 ETF Trust | NYSE Arca
IWM | iShares Russell 2000 ETF | NYSE Arca
QQQ | Powershares QQQ Trust Series 1 | NASDAQ
EEM | iShares MSCI Emerging Markets ETF | NYSE Arca
GDX | VanEck Vectors Gold Miners ETF | NYSE Arca
XLF | Financial Select Sector SPDR Fund | NYSE Arca
GLD | SPDR Gold Shares | NYSE Arca
TLT | iShares 20+ Year Treasury Bond ETF | NASDAQ
VXX | iPATH S&P 500 VIX Short-Term Futures ETN | NYSE Arca
EFA | iShares MSCI EAFE ETF | NYSE Arca
XLE | Energy Select Sector SPDR Fund | NYSE Arca
HYG | iShares iBoxx $ High Yield Corporate Bond ETF | NYSE Arca
XIV | VelocityShares Daily Inverse VIX Short Term ETN | NASDAQ
IVV | iShares Core S&P 500 ETF | NYSE Arca
XLU | Utilities Select Sector SPDR Fund | NYSE Arca
GDXJ | VanEck Vectors Junior Gold Miners ETF | NYSE Arca
XLP | Consumer Staples Select Sector SPDR Fund | NYSE Arca
FXI | iShares China Large-Cap ETF | NYSE Arca
EWZ | iShares MSCI Brazil Capped ETF | NYSE Arca
XLV | Health Care Select Sector SPDR Fund | NYSE Arca
IYR | iShares U.S. Real Estate ETF | NYSE Arca
LQD | iShares iBoxx $ Investment Grade Corporate Bond ETF | NYSE Arca
XLI | Industrial Select Sector SPDR Fund | NYSE Arca
DIA | SPDR Dow Jones Industrial Average ETF Trust | NYSE Arca
XOP | SPDR S&P Oil & Gas Exploration & Production ETF | NYSE Arca
VWO | Vanguard FTSE Emerging Markets ETF | NYSE Arca
IBB | iShares Nasdaq Biotechnology ETF | NASDAQ
XLK | Technology Select Sector SPDR Fund | NYSE Arca
XLY | Consumer Discretionary Select Sector SPDR Fund | NYSE Arca
VOO | Vanguard S&P 500 ETF | NYSE Arca
USO | United States Oil Fund LP | NYSE Arca
JNK | SPDR Bloomberg Barclays High Yield Bond ETF | NYSE Arca
XBI | SPDR S&P Biotech ETF | NYSE Arca
MDY | SPDR S&P MidCap 400 ETF Trust | NYSE Arca
VNQ | Vanguard REIT ETF | NYSE Arca
EWJ | iShares MSCI Japan ETF | NYSE Arca
SVXY | ProShares Short VIX Short-Term Futures ETF | NYSE Arca
AGG | iShares Core U.S. Aggregate Bond ETF | NYSE Arca
IEMG | iShares Core MSCI Emerging Markets ETF | NYSE Arca
KRE | SPDR S&P Regional Banking ETF | NYSE Arca
EMB | iShares JP Morgan USD Emerging Markets Bond ETF | NYSE Arca
IWD | iShares Russell 1000 Value ETF | NYSE Arca
VEA | Vanguard FTSE Developed Markets ETF | NYSE Arca
VTI | Vanguard Total Stock Market ETF | NYSE Arca
DXJ | WisdomTree Japan Hedged Equity Fund | NYSE Arca
XLB | Materials Select Sector SPDR Fund | NYSE Arca
EWW | iShares MSCI Mexico Capped ETF | NYSE Arca
IEF | iShares 7-10 Year Treasury Bond ETF | NYSE Arca
IJH | iShares Core S&P Mid-Cap ETF | NYSE Arca
XRT | SPDR S&P Retail ETF | NYSE Arca
SLV | iShares Silver Trust | NYSE Arca
IWF | iShares Russell 1000 Growth ETF | NYSE Arca
VGK | Vanguard FTSE Europe ETF | NYSE Arca
SMH | VanEck Vectors Semiconductor ETF | NYSE Arca
IWN | iShares Russell 2000 Value ETF | NYSE Arca
BND | Vanguard Total Bond Market ETF | NYSE Arca
RSX | VanEck Vectors Russia ETF | NYSE Arca
USMV | iShares MSCI USA Minimum Volatility ETF | NYSE Arca
TIP | iShares TIPS Bond ETF | NYSE Arca
EZU | iShares MSCI Eurozone ETF | Bats
IJR | iShares Core S&P Small-Cap ETF | NYSE Arca
SHY | iShares 1-3 Year Treasury Bond ETF | NYSE Arca
OIH | VanEck Vectors Oil Service ETF | NYSE Arca
EWY | iShares MSCI South Korea Capped ETF | NYSE Arca
PFF | iShares US Preferred Stock ETF | NYSE Arca
XME | SPDR S&P Metals & Mining ETF | NYSE Arca
IEFA | iShares Core MSCI EAFE ETF | NYSE Arca
IWB | iShares Russell 1000 ETF | NYSE Arca
KBE | SPDR S&P Bank ETF | NYSE Arca
BSV | Vanguard Short-Term Bond ETF | NYSE Arca
IWO | iShares Russell 2000 Growth ETF | NYSE Arca
HEDJ | WisdomTree Europe Hedged Equity Fund | NYSE Arca
EWT | iShares MSCI Taiwan ETF | NYSE Arca
SH | ProShares Short S&P 500 | NYSE Arca
ACWI | iShares MSCI ACWI ETF | NASDAQ
VCSH | Vanguard Short-Term Corporate Bond ETF | NASDAQ
SPLV | PowerShares S&P 500 Low Volatility Portfolio | NYSE Arca
EWG | iShares MSCI Germany ETF | NYSE Arca
VTV | Vanguard Value ETF | NYSE Arca
AMLP | Alerian MLP ETF | NYSE Arca
DBEF | Deutsche X-trackers MSCI EAFE Hedged Equity ETF | NYSE Arca
IAU | iShares Gold Trust | NYSE Arca
UNG | United States Natural Gas Fund LP | NYSE Arca
DVY | iShares Select Dividend ETF | NYSE Arca
BKLN | PowerShares Senior Loan Portfolio | NYSE Arca
VB | Vanguard Small-Cap ETF | NYSE Arca
VEU | Vanguard FTSE All-World ex-US ETF | NYSE Arca
IVE | iShares S&P 500 Value ETF | NYSE Arca
RSP | Guggenheim S&P 500 Equal Weight ETF | NYSE Arca
SHV | iShares Short Treasury Bond ETF | NYSE Arca
VIXY | ProShares VIX Short-Term Futures ETF | NYSE Arca
XHB | SPDR S&P Homebuilders ETF | NYSE Arca
IVW | iShares S&P 500 Growth ETF | NYSE Arca
VCIT | Vanguard Intermediate-Term Corporate Bond ETF | NASDAQ
EPI | WisdomTree India Earnings Fund | NYSE Arca
EFAV | iShares MSCI EAFE Minimum Volatility ETF | NYSE Arca
ITB | iShares U.S. Home Construction ETF | NYSE Arca
SDY | SPDR S&P Dividend ETF | NYSE Arca
MUB | iShares National Muni Bond ETF | NYSE Arca
VUG | Vanguard Growth ETF | NYSE Arca
VYM | Vanguard High Dividend Yield ETF | NYSE Arca
INDA | iShares MSCI India ETF | Bats
BIV | Vanguard Intermediate-Term Bond ETF | NYSE Arca
FEZ | SPDR EURO STOXX 50 ETF | NYSE Arca
AAXJ | iShares MSCI All Country Asia ex Japan ETF | NASDAQ
VIG | Vanguard Dividend Appreciation ETF | NYSE Arca
MCHI | iShares MSCI China ETF | NASDAQ
AMJ | JPMorgan Alerian MLP Index ETN | NYSE Arca
EWH | iShares MSCI Hong Kong ETF | NYSE Arca
EWU | iShares MSCI United Kingdom ETF | NYSE Arca
SOXX | iShares PHLX Semiconductor ETF | NASDAQ
FXE | CurrencyShares Euro Trust | NYSE Arca
MBB | iShares MBS ETF | NYSE Arca
CIU | iShares Intermediate Credit Bond ETF | NYSE Arca
VO | Vanguard Mid-Cap ETF | NYSE Arca
EWC | iShares MSCI Canada ETF | NYSE Arca
IEI | iShares 3-7 Year Treasury Bond ETF | NYSE Arca
CSJ | iShares 1-3 Year Credit Bond ETF | NYSE Arca
OEF | iShares S&P 100 ETF | NYSE Arca
ILF | iShares Latin America 40 ETF | NYSE Arca
IYE | iShares U.S. Energy ETF | NYSE Arca
VGT | Vanguard Information Technology ETF | NYSE Arca
XLRE | Real Estate Select Sector SPDR Fund | NYSE Arca
IYT | iShares Transportation Average ETF | NYSE Arca
PCY | PowerShares Emerging Markets Sovereign Debt Portfolio | NYSE Arca
IWS | iShares Russell Mid-Cap Value ETF | NYSE Arca
EEMV | iShares MSCI Emerging Markets Minimum Volatility ETF/Dup | NYSE Arca
IYF | iShares US Financials ETF | NYSE Arca
VBR | Vanguard Small-Cap Value ETF | NYSE Arca
UUP | PowerShares DB US Dollar Index Bullish Fund | NYSE Arca
BNDX | Vanguard Total International Bond ETF | NASDAQ
SJNK | SPDR Bloomberg Barclays Short Term High Yield Bond ETF | NYSE Arca
EWA | iShares MSCI Australia ETF | NYSE Arca
MINT | PIMCO Enhanced Short Maturity Active Exchange-Traded Fund | NYSE Arca
HDV | iShares High Dividend ETF | NYSE Arca
SCHF | Schwab International Equity ETF | NYSE Arca
BIL | SPDR Bloomberg Barclays 1-3 Month T-Bill | NYSE Arca
CWB | SPDR Bloomberg Barclays Convertible Securities ETF | NYSE Arca
FDN | First Trust Dow Jones Internet Index Fund | NYSE Arca
PGX | PowerShares Preferred Portfolio | NYSE Arca
VFH | Vanguard Financials ETF | NYSE Arca
IWR | iShares Russell Mid-Cap ETF | NYSE Arca
HEFA | iShares Currency Hedged MSCI EAFE ETF | NYSE Arca
VT | Vanguard Total World Stock ETF | NYSE Arca
SCZ | iShares MSCI EAFE Small-Cap ETF | NASDAQ
VXF | Vanguard Extended Market ETF | NYSE Arca
HYS | PIMCO 0-5 Year High Yield Corporate Bond Index Exchange-Traded Fund | NYSE Arca
FLOT | iShares Floating Rate Bond ETF | NYSE Arca
DBC | PowerShares DB Commodity Index Tracking Fund | NYSE Arca
ICF | iShares Cohen & Steers REIT ETF | NYSE Arca
ITOT | iShares Core S&P Total US Stock Market ETF | NYSE Arca
RWM | ProShares Short Russell2000 | NYSE Arca
SCHB | Schwab US Broad Market ETF | NYSE Arca
VHT | Vanguard Health Care ETF | NYSE Arca
RWR | SPDR Dow Jones REIT ETF | NYSE Arca
IWV | iShares Russell 3000 ETF | NYSE Arca
IYW | iShares US Technology ETF | NYSE Arca
VXUS | Vanguard Total International Stock ETF | NASDAQ
EWP | iShares MSCI Spain Capped ETF | NYSE Arca
DBEU | Deutsche X-trackers MSCI Europe Hedged Equity ETF | NYSE Arca
EZA | iShares MSCI South Africa ETF | NYSE Arca
DBJP | Deutsche X-trackers MSCI Japan Hedged Equity ETF | NYSE Arca
SCHX | Schwab US Large-Cap ETF | NYSE Arca
IJJ | iShares S&P Mid-Cap 400 Value ETF | NYSE Arca
ACWX | iShares MSCI ACWI ex US ETF | NASDAQ
RWX | SPDR Dow Jones International Real Estate ETF | NYSE Arca
IEV | iShares Europe ETF | NYSE Arca
VBK | Vanguard Small-Cap Growth ETF | NYSE Arca
VOE | Vanguard Mid-Cap Value ETF | NYSE Arca
IWP | iShares Russell Mid-Cap Growth ETF | NYSE Arca
PSQ | ProShares Short QQQ | NYSE Arca
SCHD | Schwab US Dividend Equity ETF | NYSE Arca
QUAL | iShares MSCI USA Quality Factor ETF | NYSE Arca
SPHD | PowerShares S&P 500 High Dividend Low Volatility Portfolio | NYSE Arca
FXG | First Trust Consumer Staples AlphaDEX Fund | NYSE Arca
BLV | Vanguard Long-Term Bond ETF | NYSE Arca
IJS | iShares S&P Small-Cap 600 Value ETF | NYSE Arca
VPU | Vanguard Utilities ETF | NYSE Arca
VDE | Vanguard Energy ETF | NYSE Arca
EPP | iShares MSCI Pacific ex Japan ETF | NYSE Arca
FXD | First Trust Consumer Discretionary AlphaDEX Fund | NYSE Arca
IGV | iShares North American Tech-Software ETF | NYSE Arca
NEAR | iShares Short Maturity Bond ETF | Bats
HEWJ | iShares Currency Hedged MSCI Japan ETF | NYSE Arca
EWI | iShares MSCI Italy Capped ETF | NYSE Arca
EIDO | iShares MSCI Indonesia ETF | NYSE Arca
HYD | VanEck Vectors High Yield Municipal Index ETF | NYSE Arca
SCPB | SPDR Bloomberg Barclays Short Term Corporate Bond ETF | NYSE Arca
SCHH | Schwab U.S. REIT ETF | NYSE Arca
EWL | iShares MSCI Switzerland Capped ETF | NYSE Arca
IJK | iShares S&P Mid-Cap 400 Growth ETF | NYSE Arca
EFV | iShares MSCI EAFE Value ETF | NYSE Arca
IJT | iShares S&P Small-Cap 600 Growth ETF | NYSE Arca
EMLC | VanEck Vectors J.P. Morgan EM Local Currency Bond ETF | NYSE Arca
SCHA | Schwab US Small-Cap ETF | NYSE Arca
IDU | iShares US Utilities ETF | NYSE Arca
HEZU | iShares Currency Hedged MSCI Eurozone ETF | NYSE Arca
SHM | SPDR Nuveen Barclays Short Term Municipal Bond ETF | NYSE Arca
IYH | iShares U.S. Healthcare ETF | NYSE Arca
FV | First Trust Dorsey Wright Focus 5 ETF | NASDAQ
IHI | iShares U.S. Medical Devices ETF | NYSE Arca
ITA | iShares US Aerospace & Defense ETF | NYSE Arca
GOVT | iShares Core US Treasury Bond ETF | NYSE Arca
GUNR | FlexShares Global Upstream Natural Resources Index Fund | NYSE Arca
VV | Vanguard Large-Cap ETF | NYSE Arca
ASHR | Deutsche X-trackers Harvest CSI 300 China A-Shares ETF | NYSE Arca
IYZ | iShares US Telecommunications ETF | NYSE Arca
BWX | SPDR Bloomberg Barclays International Treasury Bond ETF | NYSE Arca
TFI | SPDR Nuveen Barclays Municipal Bond ETF | NYSE Arca
SCHZ | Schwab U.S. Aggregate Bond ETF | NYSE Arca
VCLT | Vanguard Long-Term Corporate Bond ETF | NASDAQ
VNQI | Vanguard Global ex-U.S. Real Estate ETF | NASDAQ
KBWB | PowerShares KBW Bank Portfolio | NASDAQ
IDV | iShares International Select Dividend ETF | NYSE Arca
IXUS | iShares Core MSCI Total International Stock ETF | NASDAQ
ACWV | iShares MSCI All Country World Minimum Volatility ETF | NYSE Arca
FXY | CurrencyShares Japanese Yen Trust | NYSE Arca
NOBL | ProShares S&P 500 Dividend Aristocrats ETF | Bats
VPL | Vanguard FTSE Pacific ETF | NYSE Arca
THD | iShares MSCI Thailand Capped ETF | NYSE Arca
TOTL | SPDR Doubleline Total Return Tactical ETF | NYSE Arca
VDC | Vanguard Consumer Staples ETF | NYSE Arca
VOX | Vanguard Telecommunication Services ETF | NYSE Arca
VTIP | Vanguard Short-Term Inflation-Protected Securities ETF | NASDAQ
MTUM | iShares MSCI USA Momentum Factor ETF | NYSE Arca
QTEC | First Trust NASDAQ-100 Technology Index Fund | NASDAQ
EWM | iShares MSCI Malaysia ETF | NYSE Arca
FXN | First Trust Energy AlphaDEX Fund | NYSE Arca
OIL | iPath Goldman Sachs Crude Oil Total Return Index ETN | NYSE Arca
REM | iShares Mortgage Real Estate Capped ETF | NYSE Arca
TBF | ProShares Short 20+ Year Treasury | NYSE Arca
FCG | First Trust Natural Gas ETF | NYSE Arca
FXR | First Trust Industrials/Producer Durables AlphaDEX Fund | NYSE Arca
PIN | PowerShares India Portfolio | NYSE Arca
VIS | Vanguard Industrials ETF | NYSE Arca
TUR | iShares MSCI Turkey ETF | NYSE Arca
VMBS | Vanguard Mortgage-Backed Securities ETF | NASDAQ
FVD | First Trust Value Line Dividend Index Fund | NYSE Arca
FXB | CurrencyShares British Pound Sterling Trust | NYSE Arca
PHB | PowerShares Fundamental High Yield Corporate Bond Portfolio | NYSE Arca
DOG | ProShares Short Dow30 | NYSE Arca
EFG | iShares MSCI EAFE Growth ETF | NYSE Arca
EWQ | iShares MSCI France ETF | NYSE Arca
IYJ | iShares U.S. Industrials ETF | NYSE Arca
IYG | iShares U.S. Financial Services ETF | NYSE Arca
BOND | PIMCO Total Return Active Exchange-Traded Fund | NYSE Arca
HEWG | iShares Currency Hedged MSCI Germany ETF | NYSE Arca
SHYG | iShares 0-5 Year High Yield Corporate Bond ETF | NYSE Arca
VLUE | iShares MSCI USA Value Factor ETF | NYSE Arca
SCHE | Schwab Emerging Markets Equity ETF | NYSE Arca
ECH | iShares MSCI Chile Capped ETF | NYSE Arca
FXU | First Trust Utilities AlphaDEX Fund | NYSE Arca
RWO | SPDR Dow Jones Global Real Estate ETF | NYSE Arca
PRF | Powershares FTSE RAFI US 1000 Portfolio | NYSE Arca
VGLT | Vanguard Long-Term Government Bond ETF | NASDAQ
VOT | Vanguard Mid-Cap Growth ETF | NYSE Arca
SCHM | Schwab U.S. Mid-Cap ETF | NYSE Arca
EUFN | iShares MSCI Europe Financials ETF | NASDAQ
EWS | iShares MSCI Singapore ETF | NYSE Arca
GVI | iShares Intermediate Government/Credit Bond ETF | NYSE Arca
SCHV | Schwab U.S. Large-Cap Value ETF | NYSE Arca
SCHP | Schwab US TIPs ETF | NYSE Arca
DEM | WisdomTree Emerging Markets High Dividend Fund | NYSE Arca
IYM | iShares U.S. Basic Materials ETF | NYSE Arca
DBA | PowerShares DB Agriculture Fund | NYSE Arca
SCHG | Schwab U.S. Large-Cap Growth ETF | NYSE Arca
IGOV | iShares International Treasury Bond ETF | NASDAQ
IGF | iShares Global Infrastructure ETF | NASDAQ
TLH | iShares 10-20 Year Treasury Bond ETF | NYSE Arca
EPHE | iShares MSCI Philippines ETF | NYSE Arca
SCHO | Schwab Short-Term U.S. Treasury ETF | NYSE Arca
EUM | ProShares Short MSCI Emerging Markets | NYSE Arca
PGF | PowerShares Financial Preferred Portfolio | NYSE Arca
IHF | iShares U.S. Healthcare Providers ETF | NYSE Arca
VSS | Vanguard FTSE All World ex-US Small-Cap ETF | NYSE Arca
KIE | SPDR S&P Insurance ETF | NYSE Arca
SPHB | PowerShares S&P 500 High Beta Port ETF | NYSE Arca
SDOG | ALPS Sector Dividend Dogs ETF | NYSE Arca
VAW | Vanguard Materials ETF | NYSE Arca
FPE | First Trust Preferred Securities and Income ETF | NYSE Arca
ITR | SPDR Bloomberg Barclays Intermediate Term Corporate Bond ETF | NYSE Arca
VCR | Vanguard Consumer Discretionary ETF | NYSE Arca
IGE | iShares North American Natural Resources ETF | NYSE Arca
SIL | Global X Silver Miners ETF | NYSE Arca
EDV | Vanguard Extended Duration Treasury ETF | NYSE Arca
DLN | WisdomTree LargeCap Dividend Fund | NYSE Arca
DON | WisdomTree MidCap Dividend Fund | NYSE Arca
MLPI | ETRACS Alerian MLP Infrastructure Index ETN | NYSE Arca
CLY | iShares 10+ Year Credit Bond ETF | NYSE Arca
IUSG | iShares Core US Growth ETF | NYSE Arca
ITM | VanEck Vectors AMT-Free Intermediate Municipal Index ETF | NYSE Arca
RPG | Guggenheim S&P 500 Pure Growth ETF | NYSE Arca
VGIT | Vanguard Intermediate-Term Government Bond ETF | NASDAQ
CRED | iShares Core US Credit Bond ETF | NYSE Arca
XES | SPDR S&P Oil & Gas Equipment & Services ETF | NYSE Arca
PHYS | Sprott Physical Gold Trust | NYSE Arca
TLO | SPDR Bloomberg Barclays Long Term Treasury ETF | NYSE Arca
BBH | VanEck Vectors Biotech ETF | NASDAQ
RYT | Guggenheim S&P 500 Equal Weight Technology ETF | NYSE Arca
FXO | First Trust Financial AlphaDEX Fund | NYSE Arca
CWI | SPDR MSCI ACWI ex-US ETF | NYSE Arca
FXH | First Trust Health Care AlphaDEX Fund | NYSE Arca
FDL | First Trust Morningstar Dividend Leaders Index | NYSE Arca
PJP | Powershares Dynamic Pharmaceuticals Portfolio | NYSE Arca
PZA | PowerShares National AMT-Free Municipal Bond Portfolio | NYSE Arca
RPV | Guggenheim S&P 500 Pure Value ETF | NYSE Arca
GSLC | Goldman Sachs ActiveBeta U.S. Large Cap Equity ETF | NYSE Arca
SUB | iShares Short-Term National Muni Bond ETF | NYSE Arca
IXC | iShares Global Energy ETF | NYSE Arca
IAT | iShares US Regional Banks ETF | NYSE Arca
GSY | Guggenheim Enhanced Short Duration ETF | NYSE Arca
ERUS | iShares MSCI Russia Capped ETF | NYSE Arca
IXJ | iShares Global Healthcare ETF | NYSE Arca
DES | WisdomTree SmallCap Dividend Fund | NYSE Arca
DJP | iPath Bloomberg Commodity Index Total Return ETN | NYSE Arca
FTSM | First Trust Enhanced Short Maturity ETF | NASDAQ
XPH | SPDR S&P Pharmaceuticals ETF | NYSE Arca
VTEB | Vanguard Tax-Exempt Bond Index ETF | NYSE Arca
VWOB | Vanguard Emerging Markets Government Bond ETF | NASDAQ
IUSV | iShares Core US Value ETF | NYSE Arca
PDP | PowerShares DWA Momentum Portfolio | NASDAQ
MGK | Vanguard Mega Cap Growth ETF | NYSE Arca
HYLS | First Trust Exchange-Traded Fund IV First Trust Tactical High Yield ETF | NASDAQ
FEX | First Trust Large Cap Core AlphaDEX Fund | NASDAQ
HYMB | SPDR Nuveen S&P High Yield Municipal Bond ETF | NYSE Arca
DGRO | iShares Core Dividend Growth ETF | NYSE Arca
VGSH | Vanguard Short-Term Government Bond ETF | NASDAQ
RHS | Guggenheim S&P 500 Equal Weight Consumer Staples ETF | NYSE Arca
LEMB | iShares Emerging Markets Local Currency Bond ETF | NYSE Arca
FBT | First Trust NYSE Arca Biotechnology Index Fund | NYSE Arca
IYK | iShares US Consumer Goods ETF | NYSE Arca
FNDX | Schwab Fundamental U.S. Large Company Index | NYSE Arca
BNDS | SPDR Bloomberg Barclays Aggregate Bond ETF | NYSE Arca
PEY | PowerShares High Yield Equity Dividend Achievers Portfolio | NASDAQ
VRP | PowerShares Variable Rate Preferred Portfolio | NYSE Arca
SPHQ | PowerShares S&P 500 Quality Portfolio | NYSE Arca
GNR | SPDR S&P Global Natural Resources ETF | NYSE Arca
ANGL | VanEck Vectors Fallen Angel High Yield Bond ETF | NYSE Arca
EMLP | First Trust North American Energy Infrastructure Fund | NYSE Arca
VTWO | Vanguard Russell 2000 | NASDAQ
SRLN | SPDR Blackstone/GSO Senior Loan ETF | NYSE Arca
EWD | iShares MSCI Sweden ETF | NYSE Arca
RING | iShares MSCI Global Gold Miners ETF | NYSE Arca
BAB | PowerShares Build America Bond Portfolio | NYSE Arca
XMLV | PowerShares S&P MidCap Low Volatility Portfolio | NYSE Arca
KWEB | KraneShares CSI China Internet ETF | NASDAQ
IEO | iShares U.S. Oil & Gas Exploration & Production ETF | NYSE Arca
XSLV | PowerShares S&P SmallCap Low Volatility Portfolio | NYSE Arca
IEUR | iShares Core MSCI Europe ETF | NYSE Arca
IFGL | iShares International Developed Real Estate ETF | NASDAQ
ZROZ | PIMCO 25+ Year Zero Coupon U.S. Treasury Index Exchange-Traded Fund | NYSE Arca
XSD | SPDR S&P Semiconductor ETF | NYSE Arca
DFE | WisdomTree Europe SmallCap Dividend Fund | NYSE Arca
FTSL | First Trust Senior Loan ETF | NASDAQ
FXZ | First Trust Materials AlphaDEX Fund | NYSE Arca
BLHY | Virtus Newfleet Dynamic Credit ETF | NYSE Arca
SCHR | Schwab Intermediate-Term U.S. Treasury ETF | NYSE Arca
EPOL | iShares MSCI Poland Capped ETF | NYSE Arca
CMF | iShares California Muni Bond ETF | NYSE Arca
GXC | SPDR S&P China ETF | NYSE Arca
XAR | SPDR S&P Aerospace & Defense ETF | NYSE Arca
IYC | iShares U.S. Consumer Services ETF | NYSE Arca
FNDF | Schwab Fundamental International Large Company Index | NYSE Arca
DWX | SPDR S&P International Dividend ETF | NYSE Arca
SGOL | ETFS Physical Swiss Gold Shares | NYSE Arca
EWN | iShares MSCI Netherlands ETF | NYSE Arca
PKW | PowerShares Buyback Achievers Portfolio | NASDAQ
PSLV | Sprott Physical Silver Trust | NYSE Arca
IGM | iShares North American Tech ETF | NYSE Arca
FNCL | Fidelity MSCI Financials Index ETF | NYSE Arca
PPLT | ETFS Physical Platinum Shares | NYSE Arca
ISTB | iShares Core 1-5 Year USD Bond ETF | NYSE Arca
DGRW | WisdomTree U.S. Quality Dividend Growth Fund | NASDAQ
IHE | iShares US Pharmaceuticals ETF | NYSE Arca
SLYV | SPDR S&P 600 Small CapValue ETF | NYSE Arca
HACK | PureFunds ISE Cyber Security ETF | NYSE Arca
FNDA | Schwab Fundamental U.S. Small Company Index | NYSE Arca
CORP | PIMCO Investment Grade Corporate Bond Index Exchange-Traded Fund | NYSE Arca
BSJI | Guggenheim BulletShares 2018 High Yield Corporate Bond ETF | NYSE Arca
ECON | Columbia Emerging Markets Consumer ETF | NYSE Arca
PSK | SPDR Wells Fargo Preferred Stock ETF | NYSE Arca
GSG | iShares S&P GSCI Commodity Indexed Trust | NYSE Arca
VOOG | Vanguard S&P 500 Growth ETF | NYSE Arca
VXZ | iPATH S&P 500 VIX Mid-Term Futures ETN | NYSE Arca
ONEQ | Fidelity NASDAQ Composite Index Tracking Stock ETF | NASDAQ
SLYG | SPDR S&P 600 Small Cap Growth ETF | NYSE Arca
STIP | iShares 0-5 Year TIPS Bond ETF | NYSE Arca
PDBC | PowerShares DB Optimum Yield Diversified Commodity Strategy Portfolio | NASDAQ
FXL | First Trust Technology AlphaDEX Fund | NYSE Arca
IXN | iShares Global Tech ETF | NYSE Arca
MOO | VanEck Vectors Agribusiness ETF | NYSE Arca
EPU | iShares MSCI All Peru Capped ETF | NYSE Arca
SNLN | Highland/iBoxx Senior Loan ETF | NASDAQ
DHS | WisdomTree High Dividend Fund | NYSE Arca
AOR | iShares Core Growth Allocation ETF | NYSE Arca
QAI | IndexIQ ETF Trust—IQ Hedge Multi-Strategy Tracker ETF | NYSE Arca
PPH | VanEck Vectors Pharmaceutical ETF | NASDAQ
FTEC | Fidelity MSCI Information Technology Index ETF | NYSE Arca
DGS | WisdomTree Emerging Markets SmallCap Dividend Fund | NYSE Arca
FHLC | Fidelity MSCI Health Care Index ETF | NYSE Arca
FNDE | Schwab Fundamental Emerging Markets Large Company Index ETF | NYSE Arca
LMBS | First Trust Low Duration Opportunities ETF | NASDAQ
IPAC | iShares Core MSCI Pacific ETF | NYSE Arca
MGV | Vanguard Mega Cap Value ETF | NYSE Arca
FRI | First Trust S&P REIT Index Fund | NYSE Arca
JO | iPath Bloomberg Coffee Subindex Total Return ETN | NYSE Arca
PXH | PowerShares FTSE RAFI Emerging Markets Portfolio | NYSE Arca
WIP | SPDR Citi International Government Inflation-Protected Bond ETF | NYSE Arca
AOM | iShares Core Moderate Allocation ETF | NYSE Arca
EWK | iShares MSCI Belgium Capped ETF | NYSE Arca
VIIX | VelocityShares VIX Short Term ETN | NASDAQ
SCJ | iShares MSCI Japan Small-Cap ETF | NYSE Arca
DVYE | iShares Emerging Markets Dividend ETF | NYSE Arca
PXF | PowerShares FTSE RAFI Developed Markets ex-U.S. Portfolio | NYSE Arca
DBB | PowerShares DB Base Metals Fund | NYSE Arca
HYEM | VanEck Vectors Emerging High Yield Bond ETF | NYSE Arca
PPA | PowerShares Aerospace & Defense Portfolio | NYSE Arca
FTGC | First Trust Global Tactical Commodity Strategy Fund | NASDAQ
DLS | WisdomTree International SmallCap Dividend Fund | NYSE Arca
JHMD | John Hancock Multifactor Developed International ETF | NYSE Arca
SDIV | Global X SuperDividend ETF | NYSE Arca
PICK | iShares MSCI Global Metals & Mining Producers ETF | NYSE Arca
INDY | iShares India 50 ETF | NASDAQ
SPYG | SPDR S&P 500 Growth ETF | NYSE Arca
STPZ | PIMCO 1-5 Year U.S. TIPS Index Exchange-Traded Fund | NYSE Arca
SCHC | Schwab International Small-Cap Equity ETF | NYSE Arca
IXG | iShares Global Financials ETF | NYSE Arca
IAGG | iShares International Aggregate Bond Fund | Bats
IWC | iShares Micro-Cap ETF | NYSE Arca
DBO | PowerShares DB Oil Fund | NYSE Arca
FXC | CurrencyShares Canadian Dollar Trust | NYSE Arca
USCI | United States Commodity Index Fund | NYSE Arca
PSCT | PowerShares S&P SmallCap Information Technology Portfolio | NASDAQ
ITE | SPDR Bloomberg Barclays Intermediate Term Treasury ETF | NYSE Arca
DBP | PowerShares DB Precious Metals Fund | NYSE Arca
FENY | Fidelity MSCI Energy Index ETF | NYSE Arca
ELD | WisdomTree Emerging Markets Local Debt Fund | NYSE Arca
REZ | iShares Residential Real Estate Capped ETF | NYSE Arca
EWX | SPDR S&P Emerging Markets SmallCap ETF | NYSE Arca
ENZL | iShares MSCI New Zealand Capped ETF | NASDAQ
IDLV | PowerShares S&P International Developed Low Volatility Portfolio | NYSE Arca
BSJJ | Guggenheim BulletShares 2019 High Yield Corporate Bond ETF | NYSE Arca
SILJ | PureFunds ISE Junior Silver Small Cap Miners/Explorers ETF | NYSE Arca
VONG | Vanguard Russell 1000 Growth ETF | NASDAQ
JPIN | JPMorgan Diversified Return International Equity ETF | NYSE Arca
WBIY | WBI Power FactorTM High Dividend ETF | NYSE Arca
FTA | First Trust Large Cap Value AlphaDEX Fund | NASDAQ
GWX | SPDR S&P International Small Cap ETF | NYSE Arca
OUSA | O'Shares FTSE US Quality Dividend ETF | NYSE Arca
FM | iShares MSCI Frontier 100 ETF | NYSE Arca
SJB | ProShares Short High Yield | NYSE Arca
RYH | Guggenheim S&P 500 Equal Weight Healthcare ETF | NYSE Arca
VONV | Vanguard Russell 1000 Value | NASDAQ
PFXF | VanEck Vectors Preferred Securities ex Financials ETF | NYSE Arca
QDF | FlexShares Quality Dividend Index Fund | NYSE Arca
RYF | Guggenheim S&P 500 Equal Weight Financials ETF | NYSE Arca
RYE | Guggenheim S&P 500 Equal Weight Energy ETF | NYSE Arca
PID | PowerShares International Dividend Achievers Portfolio | NASDAQ
FUTY | Fidelity MSCI Utilities Index ETF | NYSE Arca
HDGE | AdvisorShares Ranger Equity Bear ETF | NYSE Arca
MOAT | VanEck Vectors Morningstar Wide Moat ETF | NYSE Arca
PWV | PowerShares Dynamic Large Cap Value Portfolio | NYSE Arca
BSCI | Guggenheim BulletShares 2018 Corporate Bond ETF | NYSE Arca
DFJ | WisdomTree Japan SmallCap Dividend Fund | NYSE Arca
TDTT | FlexShares iBoxx 3-Year Target Duration TIPS Index Fund | NYSE Arca
DGL | PowerShares DB Gold Fund | NYSE Arca
DBE | PowerShares DB Energy Fund | NYSE Arca
SMDV | Proshares Trust-Proshares Russell 2000 Dividend Growers ETF | Bats
IFV | First Trust Dorsey Wright International Focus 5 ETF | NASDAQ
MDIV | First Trust Multi-Asset Diversified Income Index Fund | NASDAQ
PRFZ | PowerShares FTSE RAFI US 1500 Small-Mid Portfolio | NASDAQ
FLRN | SPDR Bloomberg Barclays Investment Grade Floating Rate ETF | NYSE Arca
EFZ | ProShares Short MSCI EAFE | NYSE Arca
BSCH | Guggenheim BulletShares 2017 Corporate Bond ETF | NYSE Arca
IGN | iShares North American Tech-Multimedia Networking ETF | NYSE Arca
FYX | First Trust Small Cap Core AlphaDEX Fund | NASDAQ
IYY | iShares Dow Jones U.S. ETF | NYSE Arca
VNM | VanEck Vectors Vietnam ETF | NYSE Arca
DWM | WisdomTree International Equity Fund | NYSE Arca
BSCK | Guggenheim BulletShares 2020 Corporate Bond ETF | NYSE Arca
EBND | SPDR Bloomberg Barclays Emerging Markets Local Bond ETF | NYSE Arca
DSI | iShares MSCI KLD 400 Social ETF | NYSE Arca
FREL | Fidelity MSCI Real Estate Index ETF | NYSE Arca
IOO | iShares Global 100 ETF | NYSE Arca
KBWY | PowerShares KBW Premium Yield Equity REIT Portfolio | NASDAQ
IHDG | WisdomTree International Hedged Quality Dividend Growth Fund | NYSE Arca
FTC | First Trust Large Cap Growth AlphaDEX Fund | NASDAQ
IPE | SPDR Bloomberg Barclays TIPS ETF | NYSE Arca
GWL | SPDR S&P World ex-US ETF | NYSE Arca
SKYY | First Trust ISE Cloud Computing Index Fund | NASDAQ
XTN | SPDR S&P Transportation ETF | NYSE Arca
SLX | VanEck Vectors Steel Index Fund | NYSE Arca
REGL | Proshares S&P Midcap 400 Dividend Aristocrats ETF | Bats
FNX | First Trust Mid Cap Core AlphaDEX Fund | NASDAQ
SGDM | Sprott Gold Miners ETF | NYSE Arca
CMBS | iShares CMBS ETF | NYSE Arca
PKB | PowerShares Dynamic Building & Construction Portfolio | NYSE Arca
QABA | First Trust NASDAQ ABA Community Bank Index Fund | NASDAQ
MXI | iShares Global Materials ETF | NYSE Arca
TDIV | First Trust NASDAQ Technology Dividend Index Fund | NASDAQ
FDIS | Fidelity MSCI Consumer Discretionary Index ETF | NYSE Arca
AOA | iShares Core Aggressive Allocation ETF | NYSE Arca
FPX | First Trust US IPO Index Fund | NYSE Arca
FNDC | Schwab Fundamental International Small Cap Company index | NYSE Arca
BSCJ | Guggenheim BulletShares 2019 Corporate Bond ETF | NYSE Arca
AIA | iShares Asia 50 ETF | NASDAQ
GLTR | ETFS Physical Precious Metal Basket Shares | NYSE Arca
VONE | Vanguard Russell 1000 | NASDAQ
FSTA | Fidelity MSCI Consumer Staples Index ETF | NYSE Arca
BSCL | Guggenheim BulletShares 2021 Corporate Bond ETF | NYSE Arca
FDT | First Trust Developed Markets ex-US AlphaDEX Fund | NASDAQ
COMT | iShares Commodities Select Strategy ETF | NASDAQ
PUI | PowerShares DWA Utilities Momentum Portfolio | NASDAQ
PSL | PowerShares DWA Consumer Staples Momentum Portfolio | NASDAQ
MGC | Vanguard Mega Cap ETF | NYSE Arca
JKG | iShares Morningstar Mid-Cap ETF | NYSE Arca
BSJH | Guggenheim BulletShares 2017 High Yield Corporate Bond ETF | NYSE Arca
MDYG | SPDR S&P 400 Mid CapGrowth ETF | NYSE Arca
URTH | iShares MSCI World ETF | NYSE Arca
RDIV | Oppenheimer Ultra Dividend Revenue ETF | NYSE Arca
SLY | SPDR S&P 600 Small CapETF | NYSE Arca
SGG | iPath Bloomberg Sugar Subindex Total Return ETN | NYSE Arca
BSJK | Guggenheim BulletShares 2020 High Yield Corporate Bond ETF | NYSE Arca
AOK | iShares Core Conservative Allocation ETF | NYSE Arca
VIOO | Vanguard S&P Small-Cap 600 ETF | NYSE Arca
BSJG | Guggenheim BulletShares 2016 High Yield Corporate Bond ETF | NYSE Arca
PCEF | PowerShares CEF Income Composite Portfolio | NYSE Arca
RWL | Oppenheimer Large Cap Revenue ETF | NYSE Arca
PWZ | PowerShares California AMT-Free Municipal Bond Portfolio | NYSE Arca
JHML | John Hancock Multi-Factor Large Cap ETF | NYSE Arca
FLTB | Fidelity Ltd Term Bond ETF | NYSE Arca
MDYV | SPDR S&P 400 Mid Cap Value ETF | NYSE Arca
RYU | Guggenheim S&P 500 Equal Weight Utilities ETF | NYSE Arca
RGI | Guggenheim S&P 500 Equal Weight Industrials ETF | NYSE Arca
PALL | ETFS Physical Palladium Shares | NYSE Arca
XHS | SPDR S&P Health Care Services ETF | NYSE Arca
FBND | Fidelity Total Bond ETF | NYSE Arca
DVYA | iShares Asia/Pacific Dividend ETF | NYSE Arca
CORN | Teucrium Corn Fund | NYSE Arca
IVOO | Vanguard S&P Mid-Cap 400 ETF | NYSE Arca
FIDU | Fidelity MSCI Industrials Index ETF | NYSE Arca
JKE | iShares Morningstar Large-Cap Growth ETF | NYSE Arca
EMHY | iShares Emerging Markets High Yield Bond ETF | Bats
IQDF | FlexShares International Quality Dividend Index Fund | NYSE Arca
VOOV | Vanguard S&P 500 Value ETF | NYSE Arca
HEWU | iShares Currency Hedged MSCI United Kingdom ETF | NYSE Arca
FVC | First Trust Dorsey Wright Dynamic Focus 5 ETF | NASDAQ
SIVR | ETFS Physical Silver Shares | NYSE Arca
KOL | VanEck Vectors Coal ETF | NYSE Arca
MLPA | Global X MLP ETF | NYSE Arca
AGZ | iShares Agency Bond ETF | NYSE Arca
EELV | PowerShares S&P Emerging Markets Low Volatility Portfolio | NYSE Arca
TAN | Guggenheim Solar ETF | NYSE Arca
IUSB | iShares Core Total USD Bond Market ETF | NYSE Arca
IVOV | Vanguard S&P Mid-Cap 400 Value ETF | NYSE Arca
GBF | iShares Government/Credit Bond ETF | NYSE Arca
TLTD | FlexShares Morningstar Developed Markets ex-US Factor Tilt Index Fund | NYSE Arca
SLQD | iShares 0-5 Year Investment Grade Corporate Bond ETF | NASDAQ
CSM | ProShares Large Cap Core Plus | Bats
TDTF | FlexShares iBoxx 5-Year Target Duration TIPS Index Fund | NYSE Arca
SOCL | Global X Social Media Index ETF | NASDAQ
SLVP | iShares MSCI Global Silver Miners ETF | NYSE Arca
QQEW | First Trust NASDAQ-100 Equal Weighted Index Fund | NASDAQ
FJP | First Trust Japan AlphaDEX Fund | NASDAQ
FEP | First Trust Europe AlphaDEX Fund | NASDAQ
BNO | United States Brent Oil Fund LP | NYSE Arca
AMZA | InfraCap MLP ETF | NYSE Arca
MBG | SPDR Bloomberg Barclays Mortgage Backed Bond ETF | NYSE Arca
IWY | iShares Russell Top 200 Growth ETF | NYSE Arca
FLQE | Franklin LibertyQ Emerging Markets ETF | NYSE Arca
GMM | SPDR S&P Emerging Markets ETF | NYSE Arca
BSCM | Guggenheim BulletShares 2022 Corporate Bond ETF | NYSE Arca
GREK | Global X MSCI Greece ETF | NYSE Arca
FMAT | Fidelity MSCI Materials Index ETF | NYSE Arca
HEEM | iShares Currency Hedged MSCI Emerging Markets ETF | NYSE Arca
GEM | Goldman Sachs ActiveBeta Emerging Markets Equity ETF | NYSE Arca
DBKO | Deutsche X-trackers MSCI South Korea Hedged Equity ETF | NYSE Arca
ILTB | iShares Core 10+ Year USD Bond ETF | NYSE Arca
GSIE | Goldman Sachs ActiveBeta International Equity ETF | NYSE Arca
LRGF | iShares FactorSelect MSCI USA ETF | NYSE Arca
NFRA | FlexShares STOXX Global Broad Infrastructure Index Fund | NYSE Arca
AGGP | IQ Enhanced Core Plus Bond U.S. ETF | NYSE Arca
KXI | iShares Global Consumer Staples ETF | NYSE Arca
EDIV | SPDR S&P Emerging Markets Dividend ETF | NYSE Arca
IEZ | iShares U.S. Oil Equipment & Services ETF | NYSE Arca
ZIV | VelocityShares Daily Inverse VIX Medium Term ETN | NASDAQ
DTD | WisdomTree Total Dividend Fund | NYSE Arca
JJG | iPath Bloomberg Grains Subindex Total Return ETN | NYSE Arca

Appendix B—Data

Unless otherwise specified, the following data shall be collected and transmitted to the SEC in an agreed-upon format on a monthly basis, to be provided 30 calendar days following month end. Unless otherwise specified, the Primary Listing Exchanges shall be responsible for collecting and transmitting the data to the SEC. Data collected in connection with Sections II(E)-(G) below shall be transmitted to the SEC with a request for confidential treatment under the Freedom of Information Act. 5 U.S.C. 552, and the SEC's rules and regulations thereunder.

I. Summary Statistics

A. Frequency with which NMS Stocks enter a Limit State. Such summary data shall be broken down as follows:

1. Partition stocks by category

a. Tier 1 non-ETP issues > $3.00

b. Tier 1 non-ETP issues >= $0.75 and <= $3.00

c. Tier 1 non-ETP issues <$0.75

d. Tier 1 non-leveraged ETPs in each of above categories

e. Tier 1 leveraged ETPs in each of above categories

f. Tier 2 non-ETPs in each of above categories

g. Tier 2 non-leveraged ETPs in each of above categories

h. Tier 2 leveraged ETPs in each of above categories

2. Partition by time of day

a. Opening (prior to 9:45 am ET)

b. Regular (between 9:45 am ET and 3:35 pm ET)

c. Closing (after 3:35 pm ET)

d. Within five minutes of a Trading Pause re-open or IPO open

3. Track reasons for entering a Limit State, such as:

a. Liquidity gap-price reverts from a Limit State Quotation and returns to trading within the Price Bands

b. Broken trades

c. Primary Listing Exchange manually declares a Trading Pause pursuant to Section (VII)(2) of the Plan

d. Other

B. Determine (1), (2) and (3) for when a Trading Pause has been declared for an NMS Stock pursuant to the Plan.

II. Raw Data (all Participants, except A-E, which are for the Primary Listing Exchanges only)

A. Record of every Straddle State

1. Ticker, date, time entered, time exited, flag for ending with Limit State, flag for ending with manual override.

2. Pipe delimited with field names as first record.

B. Record of every Price Band

1. Ticker, date, time at beginning of Price Band, Upper Price Band, Lower Price Band

2. Pipe delimited with field names as first record

C. Record of every Limit State

1. Ticker, date, time entered, time exited, flag for halt

2. Pipe delimited with field names as first record

D. Record of every Trading Pause or halt

1. Ticker, date, time entered, time exited, type of halt (i.e., regulatory halt, non-regulatory halt, Trading Pause pursuant to the Plan, other)

2. Pipe delimited with field names as first record

E. Data set or orders entered into reopening auctions during halts or Trading Pauses

1. Arrivals, Changes, Cancels, # shares, limit/market, side, Limit State side

2. Pipe delimited with field name as first record

F. Data set of order events received during Limit States

G. Summary data on order flow of arrivals and cancellations for each 15-second period for discrete time periods and sample stocks to be determined by the SEC in subsequent data requests. Must indicate side(s) of Limit State.

1. Market/marketable sell orders arrivals and executions

a. Count

b. Shares

c. Shares executed

2. Market/marketable buy orders arrivals and executions

a. Count

b. Shares

c. Shares executed

3. Count arriving, volume arriving and shares executing in limit sell orders above NBBO mid-point

4. Count arriving, volume arriving and shares executing in limit sell orders at or below NBBO mid-point (non-marketable)

5. Count arriving, volume arriving and shares executing in limit buy orders at or above NBBO mid-point (non-marketable)

6. Count arriving, volume arriving and shares executing in limit buy orders below NBBO mid-point

7. Count and volume arriving of limit sell orders priced at or above NBBO mid-point plus $0.05

8. Count and volume arriving of limit buy orders priced at or below NBBO mid-point minus $0.05

9. Count and volume of (3-8) for cancels

10. Include: ticker, date, time at start, time of Limit State, all data item fields in 1, last sale prior to 15-second period (null if no trades today), range during 15-second period, last trade during 15-second period

III. On May 28, 2015, Participants provided to the SEC a supplemental joint assessment relating to the impact of the Plan and calibration of the Percentage Parameters as follows:

A. Assess the statistical and economic impact on liquidity of approaching Price Bands.

B. Assess the statistical and economic impact of the Price Bands on erroneous trades.

C. Assess the statistical and economic impact of the appropriateness of the Percentage Parameters used for the Price Bands.

D. Assess whether the Limit State is the appropriate length to allow for liquidity replenishment when a Limit State is reached because of a temporary liquidity gap.

E. Evaluate concerns from the options markets regarding the statistical and economic impact of Limit States on liquidity and market quality in the options markets. (Participants that operate options exchange should also prepare such assessment reports.)

F. Assess whether the process for entering a Limit State should be adjusted and whether Straddle States are problematic.

G. Assess whether the process for exiting a Limit State should be adjusted.

H. Assess whether the Trading Pauses are too long or short and whether the reopening procedures should be adjusted.

[FR Doc. 2017-20974 Filed 9-29-17; 8:45 am]

BILLING CODE 8011-01-P